COMMODITY FUTURES TRADING COMMISSION

17 CFR Part 140

Delegation of Authority to Disclose and Request Information

AGENCY: Commodity Futures Trading Commission.

ACTION: Final rules.

SUMMARY: The Commodity Futures Trading Commission (Commission) is amending certain provisions of its part 140 regulations to add the Director and Deputy Director of the Commission's Office of International Affairs as persons to whom certain authorities are delegated.

EFFECTIVE DATE: October 26, 2000.

FOR FURTHER INFORMATION CONTACT: Robert Rosenfeld, Deputy Director, Office of International Affairs, Commodity Futures Trading Commission, Three Lafayette Centre, 1155 21st Street, NW., Washington, DC 20581. Telephone: (202) 418-5645. E-mail: rrosen-field@cftc.gov.

SUPPLEMENTARY INFORMATION:

I. Delegation

Commission regulations have been amended to add the Director of the Office of International Affairs (Director) and, in certain circumstances the Deputy Director, as persons authorized in appropriate cases to disclose certain non-public information to other governmental, judicial or market authorities in carrying out his or her duties. The amendments would affect the authority to disclose: (1) Information to a contract market, registered futures association or self-regulatory organization (17 CFR 140.72), and (2) information to United States (U.S.), States and foreign government agencies and foreign futures authorities (17 CFR 140.73). This authority will facilitate OIA's ability to coordinate and share information with foreign authorities for regulatory oversight, fitness inquiries and other regulatory purposes.

II. Related Matters

A. Administrative Procedure Act

The Commission has determined that this delegation of authority relates solely to agency organization, procedure and practice. Therefore, the provisions of the Administrative Procedure Act that generally require notice of proposed rulemaking and that provide other opportunities for public participation ¹ are not applicable. The Commission further finds that, because the rules have no adverse effect upon a member of the public, there is good cause to make them effective immediately upon publication in the Federal Register.

¹ 5 U.S.C. 553 (1994).

B. Regulatory Flexibility Act

The Regulatory Flexibility Act (RFA) ² requires that agencies, in proposing rules, consider the impact of those rules on small businesses. The rules discussed herein are only an administrative delegation and will have no impact on registered entities or other persons subject to the Commission's regulatory authority. The rules solely authorize the transmission of information and do not impose any regulatory burden. Moreover, even assuming such impact, the Commission has previously established certain definitions of “small entities” to be used by the Commission in evaluating the impact of its rules on such small entities in accordance with the RFA, and determined that contract markets, futures commission merchants (FCMs) large traders and commodity pool operators (CPOs) are not small entities under the RFA. ³ With respect to commodity trading advisors (CTAs) and introducing brokers (IBs), the Commission stated that it would evaluate within the context of a particular proposal whether all or some affected CTAs and IBs should be considered small entities and if so, that it would analyze the economic impact on them of any rule.⁴ As noted above, this rule does not change any obligations or otherwise impose any regulatory burdens. Accordingly, the Chairman, on behalf of the Commission, hereby certifies, pursuant to 5 U.S.C. 605(b), that these rule amendments will not have a significant impact on a substantial number of small entities.

² 5 U.S.C. 601 et seq. (1994).

³ 47 FR 18618, 18618-18621 (April 30, 1982).

⁴ Id. at 18618-18620.

List of Subjects in 17 CFR Part 140

Authority delegations (Government agencies), Organization and functions (Government agencies).

In consideration of the foregoing and pursuant to the authority contained in the Act and, in particular, Sections 2a and 8a,⁵ the Commission is amending Part 140 of Chapter I of Title 17 of the Code of Federal Regulations as follows:

⁵ 7 U.S.C. 4a and 12a (1994).

PART 140—[AMENDED]

1. The authority citation for Part 140 continues to read as follows:

Authority: 7 U.S.C. 4a and 12a.

§ 140.72 [Amended]

2. Paragraph (a) of § 140.72 is amended by removing “and each of the Directors of the Market Surveillance Branches” and adding, “each of the Directors of the Market Surveillance Branches, the Director of the Office of International Affairs and the Deputy Director of the Office of International Affairs” in its place.

§ 140.73 [Amended]

3. Paragraph (a) of § 140.73 is amended by adding, “and the Director of the Office of International Affairs or, in his or her absence, the Deputy Director of the Office of International Affairs” after “each Deputy Director of the Division of Trading and Markets.”

Issued in Washington, DC on October 19, 2000 by the Commission.
Jean A. Webb,
Secretary of the Commission.

[FR Doc. 00-27481 Filed 10-25-00; 8:45 am]

BILLING CODE 6351-01-M